DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 30, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-011-C.

Petitioner: Alex Energy, Jerry Fork Road, Drennen, West Virginia 26667.

Mine: Jerry Fork Eagle Mine, MSHA I. D. No. 46-08787, located in Nicholas County, West Virginia.

Regulation Affected: 30 CFR 75.1101-1(b) (Deluge-type water spray systems).

Modification Request: The petitioner requests a modification of the existing standard to eliminate the use of blow-off dust covers for the spray nozzles of a deluge-type water spray system. As an alternative to using the blow-off dust covers, the petitioner proposes the following terms and conditions: (1) A person trained in the testing procedures specific to the deluge-type water spray fire suppression systems utilized at each belt drive will once each week: (a) Conduct a visual examination of each of the deluge-type water spray fire suppression systems; (b) conduct functional test of the deluge-type water spray fire suppression systems by actuating the system and watching its performance; and (c) record the results of the examination and functional test in a book maintained on the surface for that purpose. The record will be made available to the authorized representative of the Secretary and retained at the mine for one year; (2) any malfunction or clogged nozzle detected as a result of the weekly examination or functional test will be corrected immediately; and (3) the procedure used to perform the functional test will be posted at or near each belt drive that utilizes a deluge-type water spray fire suppression system. The petitioner asserts that the proposed alternative method will provide a measure of protection equal to or greater than that of the standard.

Docket Number: M-2010-012-C.

Petitioner: White Buck Coal Company, P.O. Box 180, Leivasy, West Virginia 26676.

Mine: Grassy Creek Mine, MSHA I.D. No. 46-08365 and Hominy Creek Mine, MSHA I.D. No. 46-09266, located in Nicholas County, West Virginia; and Pocahontas Mine, MSHA I.D. No. 46-09154, located in Greenbrier County, West Virginia.

Regulation Affected: 30 CFR 75.1101-1(b) (Deluge-type water spray systems).

Modification Request: The petitioner requests a modification of the existing standard to eliminate the use of blow-off dust covers for the spray nozzles of a deluge-type water spray system. As an alternative to using the blow-off dust covers, the petitioner proposes the following terms and conditions: (1) A person trained in the testing procedures specific to the deluge-type water spray fire suppression systems utilized at each belt drive will once each week: (a) Conduct a visual examination of each of the deluge-type water spray fire suppression systems; (b) conduct functional test of the deluge-type water spray fire suppression systems by actuating the system and watching its performance; and (c) record the results of the examination and functional test in a book maintained on the surface for that purpose. The record will be made available to the authorized representative of the Secretary and retained at the mine for one year; (2) any malfunction or clogged nozzle detected as a result of the weekly examination or functional test will be corrected immediately; and (3) the procedure used to perform the functional test will be posted at or near each belt drive that utilizes a deluge-type water spray fire suppression system. The petitioner asserts that the proposed alternative method will provide a measure of protection equal to or greater than that of the standard.

Docket Number: M-2010-013-C.

Petitioner: RoxCoal, Inc., 1576 Stoystown Road, P.O. Box 149, Friedens, Pennsylvania 15541.

Mine: Quecreek No. 1 Mine, MSHA I. D. No. 36-08746, and Roytown Deep Mine, MSHA I.D. No. 36-09260, located in Somerset County, Pennsylvania.

Regulation Affected: 30 CFR 75.1101-1(b) (Deluge-type water spray systems).

Modification Request: The petitioner requests a modification of the existing standard to permit an alternate method of compliance with the blow-off dust cover requirement at deluge-type water spray systems. In lieu of using blow-off dust covers, the petitioner proposes to: (1) Once every 7 days, a person trained in the testing procedures specific to the water deluge-type fire suppression systems utilized at each belt drive will: (a) Conduct a visual examination of each water deluge-type fire suppression system; (b) conduct a functional test of the water deluge-type fire suppression systems by actuating the system; and (c) any malfunction or clogged nozzle detected as a result of the examination and functional test will be recorded in a book maintained on the surface for that purpose. The record will be made available to the authorized representative of the Secretary and retained at the mine for one year; (2) any malfunction or clogged nozzle detected as a result of the weekly examination or functional test will be corrected immediately; (3) the written procedure used to perform the functional test will be provided to each individual trained in the testing procedure for reference; and (4) conducting weekly functional tests of the water deluge-type fire suppression systems as the proposed alternative method will provide for a level of safety equal to or greater than the statute in place. The petitioner asserts that the proposed alternative method will at all times guarantee no less than the same measure of protection afforded the miners by such standard with no diminution of safety to the miners.

Docket Number: M-2010-014-C.

Petitioner: Sunrise Coal, LLC, 1183, East Canvasback Drive, Terre Haute, Indiana 47802.

Mine: Carlisle Mine, MSHA I.D. No. 12-02349, located in Sullivan County, Indiana.

Regulation Affected: 30 CFR 75.1101-1(b) (Deluge-type water spray systems).

Modification Request: The petitioner requests a modification of the existing standard to permit weekly examinations and functional testing of the deluge-type water fire suppression systems in lieu of providing blow-off dust covers. The petitioner states that: (1) Conducting a weekly examination and functional test of the deluge water fire suppression systems will provide an improvement in safety and insure that the spray nozzles do not become plugged; and (2) replacing the dust caps creates an unnecessary hazard by exposing miners to the risk of a slip/fall type accident. The petitioner asserts that this petition upon approval will be mandated throughout the Carlisle Mine and will provide no less than the same measure of protection afforded by the standard.

Docket Number: M-2010-015-C.

Petitioner: Sunrise Coal, LLC, 1183 East Canvasback Drive, Terre Haute, Indiana 47802.

Mine: Carlisle Mine, MSHA I.D. No. 12-02349, located in Sullivan County, Indiana.

Regulation Affected: 30 CFR 75.1700 (Oil and gas wells).

Modification Request: The petitioner requests a modification of the existing standard to permit mine through or near (whenever the safety barrier diameter is reduced to a distance less than the District Manager would approve pursuant to 75.1700) plugged oil and gas wells penetrating the Indian V coal seam. The petitioner has listed in this petition a complete list of procedures to be utilized when plugging oil and gas wells. Persons may review these procedures at the MSHA address listed in this notice. The petitioner asserts that the proposed alternative method will at all times guarantee no less than the same measure of protection afforded to the miners under 30 CFR 75.1700.

Docket Number: M-2010-016-C.

Petitioner: Lone Mountain Processing, Inc., Drawer C, St. Charles, Virginia 24282.

Mine: Huff Creek No. 1 Mine, MSHA I.D. No. 15-17234, Darby Fork No. 1 Mine, MSHA I.D. No. 15-02263, Clover Fork No. 1 Mine, MSHA I.D. No. 15-18647, all located in Harlan County, Kentucky.

Regulation Affected: 30 CFR 75.208 (Warning devices).

Modification: The petitioner requests a modification of the existing standard to permit a readily visible warning to be posted, or a physical barrier to be installed on the second row of permanent roof support outby unsupported roof to impede travel beyond permanent support, except during the installation of roof supports. The petitioner asserts that the proposed alternative method will at all times guarantee no less than the same measure of protection afforded by the appropriate portion of 30 CFR 75.208.

Dated: March 26, 2010.
Patricia W. Silvey,
Director.

[FR Doc. 2010-7197 Filed 3-30-10; 8:45 am]

BILLING CODE 4510-43-P